DEPARTMENT OF TRANSPORTATION

Federal Aviation Administration

Public Notice of Surplus Property Release; Spokane International Airport, Spokane, Washington

AGENCY: Federal Aviation Administration (FAA), DOT.

ACTION: Notice of request to release surplus property.

SUMMARY: Notice is being given that the FAA is considering a request from the City of Spokane, Washington and the County of Spokane, Washington, to waive the surplus property requirements for approximately 1.07 acres of airport property located at Spokane International Airport, in Spokane, Washington. The subject property is located away from the aeronautical area and currently vacant. The property will remain vacant of any structures, as it will be utilized for public road improvements creating a roundabout for access to the Interstate 90 freeway. This release will allow the City and County to sell 1 parcel of airport property to WSDOT interested in accommodating increased traffic and access to the business park. There will be proceeds generated from the proposed release of this property for public road improvements. The City and County will receive not less than fair market value for the property and the revenue generated from the sale will be used for airport purposes. It has been determined through study that the subject parcel will not be needed for aeronautical purposes.

DATES: Comments are due within 30 days of the date of the publication of this notice in the Federal Register. Written comments can be provided to Ms. Mandi M. Lesauis, Program Specialist, Seattle Airports District Office, 2200 S. 216th Street, Des Moines, Washington, 98198, (206) 231-4140.

FOR FURTHER INFORMATION CONTACT: Comments on this application may be mailed or delivered to the FAA at the following address:

Ms. Mandi Lesauis, Compliance Specialist, at the Federal Aviation Administration, 2200 S. 216th St., Des Moines, Washington 98198.

(Authority: 49 U.S.C. 47153(c))

Issued in Des Moines, Washington, on December 7, 2020.
William C. Garrison,
Acting Manager,Seattle Airports District Office.

[FR Doc. 2020-27230 Filed 12-10-20; 8:45 am]

BILLING CODE 4910-13-P